DEPARTMENT OF DEFENSE

Office of the Secretary

Renewal of Federal Advisory Committee

AGENCY: Department of Defense (DoD).

ACTION: Notice.

SUMMARY: Under the provisions of the Federal Advisory Committee Act of 1972 (5 U.S.C. Appendix, as amended), the Sunshine in the Government Act of 1976 (5 U.S.C. 552b, as amended), and 41 CFR 102-3.65, the Department of Defense gives notice that it will renew the charter for the Defense Advisory Board for Employer Support of the Guard and Reserve on October 1, 2007.

The Defense Advisory Board for Employer Support of the Guard and Reserve, pursuant to 41 CFR 102-3.50(d), is a discretionary Federal advisory committee established to provide the Secretary of Defense, through the Under Secretary of Defense (Personnel and Readiness) and the Assistant Secretary of Defense (Reserve Affairs), with independent advice concerning matters arising from the military service obligations of members of the National Guard and Reserve members and the impact on their civilian employment. The Assistant Secretary of Defense (Reserve Affairs) may act upon the advice of the committee.

The Defense Advisory Board for Employer Support of the Guard and Reserve shall be composed of no more than 15 members appointed by the Secretary of Defense for three-year terms, and their appointments will be reviewed on an annual basis. Those members, who are not full-time Federal officers or employees, shall serve as Special Government Employees under the authority of 5 U.S.C. 3109. With the exception of travel and per diem for official travel, Committee members shall serve without compensation. The Assistant Secretary of Defense (Reserve Affairs) shall select the Committee's Chairperson from the membership at large.

The Defense Advisory Board for Employer Support of the Guard and Reserve shall meet at the call of the committee's Designated Federal Officer, in consultation with the Chairperson and the Assistant Secretary of Defense (Reserve Affairs). The Designated Federal Officer shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Defense Advisory Board for Employer Support of the Guard and Reserve membership about the committee's mission and functions. Written statements may be submitted at any time or in response to the stated agenda of planned meetings of the Defense Advisory Board for Employer Support of the Guard and Reserve.

All written statements shall be submitted to the Designated Federal Officer for the Defense Advisory Board for Employer Support of the Guard and Reserve, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Defense Advisory Board for Employer Support of the Guard and Reserve. The Designated Federal Officer, at that time, may provide additional guidance on the submission of written statements that are in response to the stated agenda for the planned meeting in question.

FOR FURTHER INFORMATION CONTACT: Jim Freeman, DoD Committee Management Office, 703-601-2554, extension 128.

Dated: July 30, 2007.
L.M. Bynum,
Alternate OSD Federal Register Liaison Officer, Department of Defense.

[FR Doc. 07-3823 Filed 8-1-07 10:24 am]

BILLING CODE 5001-06-M